ENVIRONMENTAL PROTECTION AGENCY

[ER-FRL-9051-7]

Environmental Impact Statements; Notice of Availability

Responsible Agency: Office of Federal Activities, General Information 202-564-5632 or https://www.epa.gov/nepa.

Weekly receipt of Environmental Impact Statements (EIS)

Filed June 26, 2020, 10 a.m. EST Through July 6, 2020, 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200135, Draft, CHSRA, CA, California High-Speed Rail: San Francisco to San Jose Project Section: Draft Environmental Impact Report/Environmental Impact Statement, Comment Period Ends: 08/24/2020, Contact: Dan McKell 916-330-5668.

EIS No. 20200136, Final, NIH, MD, NIH Bethesda Surgery, Radiology, And Lab Medicine Building, Review Period Ends: 08/10/2020, Contact: Valerie Nottingham 301-496-7775.

EIS No. 20200138, Fourth Draft Supplemental, FHWA, VT, Champlain Parkway or Southern Connector Limited Scope Burlington, Vermont, Comment Period Ends: 08/24/2020, Contact: Patrick Kirby 802-828-4568.

EIS No. 20200139, Draft, FHWA, MD, I-495 & I-270 Managed Lanes Study Draft Environmental Impact Statement and Draft Section 4(f) Evaluation, Comment Period Ends: 10/08/2020, Contact: Jeanette Mar 410-779-7152.

Dated: July 7, 2020.
Robert Tomiak,
Director, Office of Federal Activities.

[FR Doc. 2020-14939 Filed 7-9-20; 8:45 am]

BILLING CODE 6560-50-P